DEPARTMENT OF COMMERCE

International Trade Administration

A-570-891

Hand Trucks and Certain Parts Thereof from The People's Republic of China: Notice of Decision of the Court of International Trade Not in Harmony

AGENCY: Import Administration, International Trade Administration, U.S. Department of Commerce.

SUMMARY: On March 8, 2006, the United States Court of International Trade (“Court”) sustained the final remand determination made by the Department of Commerce (“the Department”) pursuant to the Court's remand of the scope of the antidumping duty order on hand trucks from the People's Republic of China (“PRC”). See Vertex International, Inc., v. United States, Ct. No. 05-00272, Slip Op. 06-35 (Ct. Int'l Trade March 8, 2006) (“Vertex II”). This case arises out of the Department's Antidumping Duty Order on Hand Trucks and Certain Parts Thereof from the People's Republic of China, 69 FR 70122 (December 2, 2004) (“Order”). The final judgment in this case was not in harmony with the Department's February 2005 Final Scope Ruling.

EFFECTIVE DATE: April 28, 2006.

FOR FURTHER INFORMATION CONTACT: Lilit Astvatsatrian, AD/CVD Operations, Office 8, Import Administration, International Trade Administration, U.S. Department of Commerce, 14th Street and Constitution Avenue, NW, Washington DC 20230; telephone (202) 482-6412.

SUPPLEMENTARY INFORMATION:

Background

On December 27, 2004, Vertex International, Inc. (“Vertex”) requested a ruling from the Department to determine whether its garden cart, model MO 480 Deluxe Garden Cart, fell within the scope of the antidumping duty order on hand trucks from the PRC. See Vertex's Scope Ruling Request, Exhibit A (December 27, 2004) (“Scope Ruling Request”). On January 19, 2005, the Petitioners, Gleason Industrial Products, Inc. and Precision Products, Inc., stated that Vertex's garden cart was not within the scope of the order because the projecting edge on its product is incapable of sliding under a load for purposes of lifting and/or moving the load.

In an unpublished ruling, the Department found that the garden cart exhibited all of the essential physical characteristics of hand trucks as outlined by the Order and was within the scope of the Order. See Memorandum from Aishe Allen, Case Analyst, though Wendy Frankel, Office Director to Barbara E. Tillman, Acting Deputy Assistant Secretary: Final Scope Ruling on the Antidumping Duty Order From the People's Republic of China, February 15, 2005 (“Final Scope Ruling”).

On March 17, 2005, Vertex filed its summons with the Court alleging that the Department's determination that the garden cart was within the scope of the Order was not supported by substantial evidence. On January 19, 2006, the Court issued its opinion finding that there was substantial evidence on the record demonstrating that Vertex's cart was outside the scope of the order. See Vertex International, Inc. v. United States, Ct. No. 05-00272, Slip Op. 06-10 (CIT January 19, 2006) (“Vertex I”). The Court instructed the Department to issue a determination that Vertex's garden cart is outside the scope of the order on hand trucks.

On February 21, 2006, the Department issued its final results of redetermination pursuant to court remand, in which the Department stated that we found Vertex's MO 480 Deluxe Garden Cart outside the scope of the Order on hand trucks. On March 8, 2006, the Court issued an opinion affirming this conclusion. See Vertex II.

Timken Notice

In its decision in Timken Co., v. United States, 893 F.2d 337, 341 (Fed. Cir. 1990) (“Timken”), the United States Court of Appeals for the Federal Circuit held that, pursuant to section 516A(e) of the Tariff Act of 1930, as amended (“the Act”), the Department must publish a notice of a court decision that is not “in harmony” with a Department determination. The Court's decision in Vertex on March 8, 2006, constitutes a final decision of that court that is not in harmony with the Department's scope ruling. This notice is published in fulfillment of the publication requirements of Timken. Accordingly, the Department will issue revised instructions to U.S. Customs and Border Protection if the Court's decision is not appealed or if it is affirmed on appeal.

This notice is issued and published in accordance with section 516A(c)(1) of the Act.

Dated: April 21, 2006.
Joseph A. Spetrini,
Acting Assistant Secretary for Import Administration.

[FR Doc. E6-6434 Filed 4-27-06; 8:45 am]

BILLING CODE 3510-DS-S